NATIONAL TRANSPORTATION SAFETY BOARD

Proposed Information Collection Activity: Submission for OMB Review; Comment Request

AGENCY: National Transportation Safety Board (NTSB).

ACTION: Notice.

SUMMARY: The NTSB is announcing that it will submit an Information Collection Request (ICR) to the Office of Management and Budget (OMB) for approval, in accordance with the Paperwork Reduction Act. This ICR proposes voluntary completion of a form to collect contact information of victims of transportation accidents, and/or victims' family members and friends. The NTSB will transmit either a paper copy or an electronic copy of the form to victims' family members and friends. This Notice informs the public that they may submit comments concerning the NTSB's proposed collection of information to the NTSB Desk Officer at the OMB.

DATES: Submit written comments regarding this proposed collection of information by August 8, 2012.

ADDRESSES: Respondents may submit written comments on the collection of information to the Office of Information and Regulatory Affairs of the Office of Management and Budget, Attention: Desk Officer for the National Transportation Safety Board, Washington, DC 20503.

FOR FURTHER INFORMATION CONTACT: Paul Sledzik, NTSB Office of Transportation Disaster Assistance, at (202) 314-6185.

SUPPLEMENTARY INFORMATION: In accordance with the Paperwork Reduction Act, the NTSB previously published a Notice in the Federal Register indicating its proposal to collect basic contact information, such as email addresses and telephone numbers, of victims of transportation accidents, and/or victims' family members and friends. 77 FR 18269 (Mar. 27, 2012). The NTSB did not receive any comments. At this juncture, in accordance with OMB regulations that require this additional Notice for proposed ICRs, the NTSB seeks to notify the public that it may submit comments on this proposed ICR to OMB. 5 CFR 1320.10(a).

Respondents' completion of the proposed form is voluntary. The survey will be available as a paper copy that the NTSB may mail to a potential respondent, or an electronic copy the NTSB may transmit via email. The form is not duplicative of other agencies' collections of information. The NTSB estimates that respondents will spend, at most, 10 minutes in completing the form. The NTSB estimates that approximately 50 respondents per year will complete the form.

Dated: June 29, 2012.
Deborah A.P. Hersman,
Chairman.

[FR Doc. 2012-16590 Filed 7-6-12; 8:45 am]

BILLING CODE 7533-01-P